DEPARTMENT OF LABOR

Employment and Training Administration

[TA-W-60,306]

United Auto Workers, Local 969 Columbus, OH; Dismissal of Application for Reconsideration

Pursuant to 29 CFR 90.18(C) an application for administrative reconsideration was filed with the Director of the Division of Trade Adjustment Assistance for workers at United Auto Workers, Local 969, Columbus, Ohio. The application did not contain new information supporting a conclusion that the determination was erroneous, and also did not provide a justification for reconsideration of the determination that was based on either mistaken facts or a misinterpretation of facts or of the law. Therefore, dismissal of the application was issued.

TA-W-60,306; United Auto Workers, Local 969 Columbus, Ohio (December 8, 2006)

Signed at Washington, DC this 13th day of December 2006.
Linda G. Poole,
Certifying Officer, Division of Trade Adjustment, Assistance.

[FR Doc. E6-21794 Filed 12-20-06; 8:45 am]

BILLING CODE 4510-30-P